SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: March 1-31, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Seneca Resources Corporation, Pad ID: Gamble Pad A, ABR-201110103.R1, Gamble Township, Lycoming County, Pa.; Consumptive Use of Up to 4.0000 mgd; Approval Date: March 4, 2016.

2. XTO Energy Incorporated, Pad ID: PA Tract Unit I, ABR-201108040.R1, Chapman Township, Clinton County, Pa.; Consumptive Use of Up to 4.0000 mgd; Approval Date: March 4, 2016.

3. XTO Energy Incorporated, Pad ID: PA Tract Unit E, ABR-201108041.R1, Chapman Township, Clinton County, Pa.; Consumptive Use of Up to 4.0000 mgd; Approval Date: March 4, 2016.

4. XTO Energy Incorporated, Pad ID: PA Tract Unit G, ABR-201109018.R1, Chapman Township, Clinton County, Pa.; Consumptive Use of Up to 4.0000 mgd; Approval Date: March 7, 2016.

5. SWN Production Company, LLC, Pad ID: Knapik Well Pad, ABR-201102033.R1, Liberty Township, Susquehanna County, Pa.; Consumptive Use of Up to 4.0000 mgd; Approval Date: March 8, 2016.

6. SWN Production Company, LLC, Pad ID: Hayes Well Pad, ABR-201102034.R1, Silver Lake Township, Susquehanna County, Pa.; Consumptive Use of Up to 4.0000 mgd; Approval Date: March 9, 2016.

7. SWEPI LP, Pad ID: Cole 495, ABR-201102016.R1, Richmond Township, Tioga County, Pa.; Consumptive Use of Up to 4.0000 mgd; Approval Date: March 9, 2016.

8. SWEPI LP, Pad ID: Boroch 477, ABR-201102018.R1, Charleston Township, Tioga County, Pa.; Consumptive Use of Up to 4.0000 mgd; Approval Date: March 9, 2016.

9. WPX Energy Appalachia, LLC, Pad ID: M. Martin 1V, ABR-201007081.R1, Sugarloaf Township, Columbia County, Pa.; Consumptive Use of Up to 4.0000 mgd; Approval Date: March 9, 2016.

10. Seneca Resources Corporation, Pad ID: Gamble Pad M, ABR-201603001, Eldred Township, Lycoming County, Pa.; Consumptive Use of Up to 4.0000 mgd; Approval Date: March 11, 2016.

11. Seneca Resources Corporation, Pad ID: DCNR 100 PAD E, ABR-201105009.R1, McIntyre Township, Lycoming County, Pa.; Consumptive Use of Up to 4.0000 mgd; Approval Date: March 11, 2016.

12. Anadarko E&P Onshore, LLC, Pad ID: Larrys Creek F&G Pad C, ABR-201105014.R1, Cummings Township, Lycoming County, Pa.; Consumptive Use of Up to 4.0000 mgd; Approval Date: March 11, 2016.

13. Talisman Energy USA, Inc., Pad ID: 05 100 Dewing R, ABR-201102020.R1, Warren Township, Bradford County, Pa.; Consumptive Use of Up to 6.0000 mgd; Approval Date: March 11, 2016.

14. Chesapeake Appalachia, LLC, Pad ID: ACW, ABR-201107004.R1, Leroy Township, Bradford County, Pa.; Consumptive Use of Up to 7.5000 mgd; Approval Date: March 11, 2016.

15. Chesapeake Appalachia, LLC, Pad ID: Belawske, ABR-201107002.R1, Burlington Township, Bradford County, Pa.; Consumptive Use of Up to 7.5000 mgd; Approval Date: March 11, 2016.

16. Chesapeake Appalachia, LLC, Pad ID: SJW, ABR-201107003.R1, Wilmot Township, Bradford County, Pa.; Consumptive Use of Up to 7.5000 mgd; Approval Date: March 11, 2016.

17. Chesapeake Appalachia, LLC, Pad ID: Fisher, ABR-201107047.R1, Wysox Township, Bradford County, Pa.; Consumptive Use of Up to 7.5000 mgd; Approval Date: March 11, 2016.

18. Chesapeake Appalachia, LLC, Pad ID: Layton, ABR-201107036.R1, Litchfield Township, Bradford County, Pa.; Consumptive Use of Up to 7.5000 mgd; Approval Date: March 11, 2016.

19. SWEPI LP, Pad ID: Kuhl 529, ABR-201102014.R1, Richmond Township, Tioga County, Pa.; Consumptive Use of Up to 4.0000 mgd; Approval Date: March 11, 2016.

20. SWEPI LP, Pad ID: Stanley 1106, ABR-201102015.R1, Osceola Township, Tioga County, Pa.; Consumptive Use of Up to 4.0000 mgd; Approval Date: March 11, 2016.

21. SWEPI LP, Pad ID: MY TB INV LLC 891, ABR-201102010.R1, Deerfield Township, Tioga County, Pa.; Consumptive Use of Up to 4.0000 mgd; Approval Date: March 11, 2016.

22. EXCO Resources (PA), LLC, Pad ID: DCNR Tract 323 Pad-2, ABR-201012003.R1, Pine Township, Clearfield County, Pa.; Consumptive Use of Up to 8.0000 mgd; Approval Date: March 21, 2016.

23. EQT Production Company, Pad ID: Turkey, ABR-201107040.R1, Huston Township, Clearfield County, Pa.; Consumptive Use of Up to 3.0000 mgd; Approval Date: March 21, 2016.

24. Frontier Natural Resources, Inc., Pad ID: Winner 1, ABR-201101027.R1, West Keating Township, Clinton County, Pa.; Consumptive Use of Up to 4.0000 mgd; Approval Date: March 21, 2016.

25. Pennsylvania General Energy Company, LLC, Pad ID: COP Tract 729 Pad E, ABR-201107046.R1, Cummings Township, Lycoming County, Pa.; Consumptive Use of Up to 3.5000 mgd; Approval Date: March 25, 2016.

26. SWN Production Company, LLC, Pad ID: Sadecki Well Pad, ABR-201105020.R1, Liberty Township, Susquehanna County, Pa.; Consumptive Use of Up to 4.0000 mgd; Approval Date: March 25, 2016.

27. SWN Production Company, LLC, Pad ID: Mitchell Well Pad, ABR-201105026.R1, Franklin Township, Susquehanna County, Pa.; Consumptive Use of Up to 4.0000 mgd; Approval Date: March 25, 2016.

28. Anadarko E&P Onshore, LLC, Pad ID: COP Tract 728 Pad H, ABR-201105006.R1, Watson Township, Lycoming County, Pa.; Consumptive Use of Up to 4.0000 mgd; Approval Date: March 28, 2016.

29. Anadarko E&P Onshore, LLC, Pad ID: COP Tract 728 Pad G, ABR-201105007.R1, Watson Township, Lycoming County, Pa.; Consumptive Use of Up to 4.0000 mgd; Approval Date: March 28, 2016.

30. Chesapeake Appalachia, LLC, Pad ID: Alexander, ABR-201108031.R1, Terry Township, Bradford County, Pa.; Consumptive Use of Up to 7.5000 mgd; Approval Date: March 28, 2016.

31. Chesapeake Appalachia, LLC, Pad ID: Merryall, ABR-201108047.R1, Wyalusing Township, Bradford County, Pa.; Consumptive Use of Up to 7.5000 mgd; Approval Date: March 28, 2016.

32. Chesapeake Appalachia, LLC, Pad ID: Albertson, ABR-201108048.R1, Athens Township, Bradford County, Pa.; Consumptive Use of Up to 7.5000 mgd; Approval Date: March 28, 2016.

Authority: Pub. L. 91-575, 84 Stat. 1509 et seq., 18 CFR parts 806, 807, and 808.

Dated: April 14, 2016.
Stephanie L. Richardson,
Secretary to the Commission.

[FR Doc. 2016-09054 Filed 4-19-16; 8:45 am]

BILLING CODE 7040-01-P